DEPARTMENT OF TRANSPORTATION

Surface Transportation Board

[STB Finance Docket No. 33913]

Minnesota, Dakota & Western Railway Company—Trackage Rights Exemption—The Burlington Northern and Santa Fe Railway Company, Duluth, Missabe and Iron Range Railway Company, and Soo Line Railroad Company d/b/a Canadian Pacific Railway

The Burlington Northern and Santa Fe Railway Company (BNSF) has agreed to assign to Minnesota, Dakota & Western Railway Company (MDW) overhead trackage rights over the Rainy Subdivision of the Duluth, Winnipeg and Pacific Railway between milepost 0, at Duluth, MN, and milepost 165.2, at Ranier, MN, a distance of approximately 165.2 miles. Additionally, the Duluth, Missabe and Iron Range Railway Company (DMIR) and the Soo Line Railroad Company d/b/a Canadian Pacific Railway (CPR), have agreed to grant MDW trackage rights. DMIR is granting MDW trackage rights to operate along DMIR's Spirit Lake Branch and Interstate Branch, between milepost 5.77, at Nevada, MN (Nopeming Junction), and milepost 17.28, near Saunders, WI, together with turnout and connecting track, a distance of 11.85 miles. CPR is granting MDW trackage rights to operate at Saunders, WI, between CPR/DMIR junction and the CPR/BNSF division of ownership at BNSF's 28th Street Yard, in Superior, WI, a distance of approximately 0.69 miles.¹

¹ Redacted versions of the trackage rights agreements between the parties were filed with the verified notice of exemption. Also, full versions of the trackage rights agreements, as required by 49 CFR 1180.6(a)(7)(ii), were filed under seal. A motion for a protective order was filed on August 18, 2000. That motion was granted and a protective order in this proceeding was served on August 30, 2000.

The earliest the transaction could be consummated was August 28, 2000, the effective date of the exemption. However, the parties have stated that consummation will occur on or about December 20, 2000.

The trackage rights will permit MDW to operate directly between International Falls, MN, and Superior, WI.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33913, must be filed with the Surface Transportation Board, Office of the Secretary, Case Control Unit, 1925 K Street, NW., Washington, DC 20423-0001. In addition, one copy of each pleading must be served on Martin W. Bercovici, Esq., Keller and Heckman, LLP, 1001 G Street, N.W., Washington, DC 20001.

Board decisions and notices are available on our website at “WWW.STB.DOT.GOV.”

Decided: August 30, 2000.
By the Board, David M. Konschnik, Director, Office of Proceedings.
Vernon A. Williams,
Secretary.

[FR Doc. 00-22785 Filed 9-7-00; 8:45 am]

BILLING CODE 4915-00-P